DEPARTMENT OF THE INTERIOR

Bureau of Land Management

[19X R4079V4 RX.12255301.3000000 AZA30355]

Notice of Application for Withdrawal Extension and Notification of Public Meeting, Lake Roosevelt Expansion Area; Arizona

AGENCY: Bureau of Land Management, Interior.

ACTION: Notice.

SUMMARY: The Assistant Secretary—Land and Minerals Management proposes to extend the duration of Public Land Order (PLO) No. 7420 for an additional 20-year term. PLO No. 7420 withdrew 9,175 acres of National Forest System lands from location and entry under the United States mining laws, but not from leasing under the mineral leasing laws. The purpose of the withdrawal is to protect the Bureau of Reclamation's (BOR) Lake Roosevelt expansion area. This Notice also gives the public an opportunity to comment on the withdrawal extension application, and announces the date, time, and location of the public meeting.

DATES: Comments must be received by October 29, 2019. The BOR will hold a public meeting in connection with the proposed withdrawal extension on September 4, 2019.

ADDRESSES: All comments should be sent to the Bureau of Land (BLM) Arizona State Office, One North Central, Suite 800, Phoenix, Arizona 85004, or faxed to 602-417-9452. The BLM will not consider comments received via telephone calls.

FOR FURTHER INFORMATION CONTACT: Sara Ferreira, Land Law Examiner, BLM, at 602-417-9598, by email at sferreir@blm.gov, or contact the BLM Arizona State Office, One North Central, Suite 800, Phoenix, Arizona 85004. Persons who use a telecommunications device for the deaf (TDD) may call the Federal Relay Service (FRS) at 1-800-877-8339 to contact the above individual. The FRS is available 24 hours a day, 7 days a week, to leave a message or question with the above individual. You will receive a reply during normal business hours.

SUPPLEMENTARY INFORMATION: The BOR has filed an application to extend, for an additional 20-year term, a withdrawal established by PLO No. 7420 which will expire on December 3, 2019. PLO 7420 withdrew the following described lands from location and entry under the United States mining laws, but not from leasing under the mineral leasing laws, for a period of 20 years, to protect the BOR's Roosevelt Lake Expansion Area. Portions of these lands are unsurveyed and the acres were obtained from protraction diagrams. The legal descriptions written in PLO No. 7420 are revised to reflect the Cadastral Survey's Specifications for Descriptions of Land:

Gila and Salt River Meridian, Arizona

T. 3 N, R. 13 E, unsurveyed.

A portion of protraction block 45;

A portion of protraction block 46;

A portion of protraction block 47;

A portion of protraction block 48;

A portion of protraction block 53;

A portion of protraction block 54.

T. 3 N, R. 14 E, partially surveyed.

A portion of unsurveyed section 2;

A portion of unsurveyed section 3;

Sec. 4, SW¼NW¼;

Sec. 5, lots 1, 2, and 4;

Sec. 6, lot 1, and SE¼NE¼;

A portion of unsurveyed section 9;

A portion of unsurveyed section 10;

A portion of unsurveyed section 11.

T. 4 N, R. 11 E, partially surveyed.

Sec. 2, lot 4, SW¼NW¼, NW¼SW¼, and SE¼SW¼;

Sec. 3, lots 1 and 2, and S½NE¼;

Sec. 11, NW¼NE¼, and SE¼NE¼;

Sec. 12, SE¼SW¼;

Sec. 13, N½NE¼.

T. 4 N, R. 12 E, partially surveyed.

Sec. 2, S½NE¼, S½NW¼, and S½;

Sec. 3;

Sec. 4, W½SW¼;

Sec. 5, lot 1, and SE¼NE¼;

Sec. 9, N½NE¼;

Sec. 10, N½NE¼, and N½NW¼;

Sec. 12, W½NE¼, N½NW¼, and SE¼NW¼;

Sec. 36, E½NE¼.

T. 4 N, R. 13 E,

Sec. 17, S½NE¼, S½NW¼, and N½SE¼;

Sec. 21, N½NW¼, and NE¼;

Sec. 22, S½NE¼, and NW¼;

Sec. 23, NE¼SW¼, and N½SE¼;

Sec. 25, W½NE¼, SE¼NE¼, and NW¼;

Sec. 31, lots 1 and 2, E½NW¼, and S½NE¼;

Sec. 32, SW¼NW¼, N½SW¼, SE¼SW¼, W½SE¼, and SE¼SE¼.

T. 4 N, R. 14 E, partially surveyed.

Sec. 30, lot 3;

Sec. 31, E½SE¼, and S½NE¼.

T. 5 N, R. 10 E, unsurveyed.

A portion of protraction block 37.

T. 5 N, R. 11 E, partially surveyed.

Sec. 5, SW¼NE¼, SE¼NW¼, NE¼SW¼, NW¼SE¼, and SE¼SE¼;

Sec. 6, lots 3, 4, and 5, SW¼NE¼, SE¼NW¼, NE¼SW¼, and SE¼;

Sec. 7, NE¼, and N½SE¼;

Sec. 8, NW¼NE¼, El/2NE¼, E½SE¼, and W½NW¼;

Sec. 14, S½SW¼, and SW¼SE¼;

Sec. 15, SW¼SW¼;

Sec. 16, SW¼NE¼, SW¼, and S½SE¼;

Sec. 17, E½NE¼, and NE¼SE¼;

Sec. 22, N½NW¼, and N½NE¼;

Sec. 23, W½NE¼, N½NW¼, NW¼SE¼, and SE¼SE¼;

Sec. 24, S½SW¼;

Sec. 25, W½NE¼, NE¼NW¼, and N½SE¼;

Sec. 28, SW¼NW¼, and SE¼SE¼;

Sec. 34, NW¼NW¼, and SE¼NW¼.

T. 5 N, R. 12 E, unsurveyed.

A portion of protraction block 48;

A portion of protraction block 49;

A portion of protraction block 50.

T. 6 N, R. 11 E,

Sec. 31, lots 4 and 9, W½SE¼SW¼, and E½SE¼SE¼;

Sec. 32, SW¼SW¼.

The areas described aggregate 9,175 acres in Gila County.

The proposed withdrawal would continue the purpose of the withdrawal established by PLO No. 7420 to protect the capital investments and high-quality recreation values in the BOR's Lake Roosevelt Expansion area.

The use of a right-of-way, interagency agreement, or cooperative agreement would not provide adequate protection for the capital improvement investment that the BOR has made to the Lake Roosevelt Expansion Area.

No additional water rights are needed to fulfill the purpose of the requested withdrawal extension.

There are no suitable alternative sites since the land described contains the developed Lake Roosevelt Expansion Area.

For a period until the October 29, 2019 all persons who wish to submit comments, suggestions, or objections in connection with the withdrawal extension application may present their views in writing to the BLM to the address noted above. Comments, including name and street address of respondents, will be available for public review stated in the ADDRESSES section above during regular business hours 8:00 a.m. to 4:30 p.m., Monday through Friday, except Federal holidays.

Before including your address, phone number, email address, or other personal identifying information in your comment, you should be aware that your entire comment including your personal identifying information may be made publicly available at any time. While you can ask us in your comment to withhold your personal identifying information from public review, we cannot guarantee that we will be able to do so.

Notice is hereby given that a public meeting in connection with the application for withdrawal extension will be held at the BOR Glendale Office, 6150 W. Thunderbird Rd., Glendale, AZ 85306, on September 4, 2019 from 8:00 a.m. to 5:00 p.m. The BOR will publish a Notice of the time and place in a local newspaper at least 30 days before the scheduled date of the meeting.

The withdrawal extension application will be processed in accordance with the regulations set forth in 43 CFR part 2300.

Dated: July 22, 2019.
Joseph R. Balash,
Assistant Secretary—Land and Minerals Management.

[FR Doc. 2019-16299 Filed 7-30-19; 8:45 am]

BILLING CODE 4332-90-P